DEPARTMENT OF HEALTH AND HUMAN SERVICES

Administration for Children and Families

Notice of Revised Child Outcomes Framework

AGENCY: Office of Head Start (OHS), HHS.

ACTION: Notice of Revised Child Outcomes Framework.

SUMMARY: This notice announces and informs the public of the revised Head Start Child Outcomes Framework, renamed The Head Start Child Development and Learning Framework: Promoting Positive Outcomes in Early Childhood Programs Serving Children 3-5 Years Old. The Framework was revised to give more prominence to the information part of the initial document. The revisions do not create new requirements on Head Start and delegate agencies. The revised Framework continues to identify the developmental outcomes that Head Start and delegate agencies have been responsible for addressing in their Head Start preschool programs serving 3 to 5 year old children since the original was published in 2000.

FOR FURTHER INFORMATION CONTACT: Call toll-free number 1-866-763-6481; e-mail childoutcomes@headstartinfo.org; or mail Michele Plutro, Head Start Program Specialist, Office of Head Start, 1250 Maryland Avenue, SW., Suite 8000, Washington, DC 20024.

Dated: January 4, 2011.
Yvette Sanchez Fuentes,
Director, Office of Head Start.

[FR Doc. 2011-195 Filed 1-7-11; 8:45 am]

BILLING CODE P